DEPARTMENT OF TRANSPORTATION

Federal Aviation Administration

Notice of Passenger Facility Charge (PFC) Approvals and Disapprovals

AGENCY: Federal Aviation Administration (FAA), DOT.

ACTION: Monthly Notice of PFC Approvals and Disapprovals. In May 2004, there was one application approved. This notice also includes information on one application, approved in April 2004, inadvertently left off the April 2004 notice. Additionally, one approved amendment to a previously approved application is listed.

SUMMARY: The FAA publishes a monthly notice, as appropriate, of PFC approvals and disapprovals under the provisions of the Aviation Safety and Capacity Expansion Act of 1990 (Title IX of the Omnibus Budget Reconciliation Act of 1990) (Pub. L. 101-508) and Part 158 of the Federal Aviation Regulations (14 CFR Part 158). This notice is published pursuant to paragraph d of § 158.29.

PFC Applications Approved

Public Agency: Scotts Bluff County Airport Authority, Scottsbluff, Nebraska.

Application Number: 04-02-C-00-BFF.

Application Type: Impose and use a PFC.

PFC Level: $4.50.

Total PFC Revenue Approved in This Decision: $112,700.

Earliest Charge Effective Date: July 1, 2004.

Estimated Charge Expiration Date: April 1, 2007.

Class of Air Carriers Not Required To Collect PFC'S: None.

Brief Description of Project Approved For Collection and Use: Construct new terminal.

Decision Date: April 27, 2004.

FOR FURTHER INFORMATION CONTACT: Lorna K. Sandridge, Central Region Airport Division, (816) 329-2641.

Public Agency: Central West Virginia Regional Airport Authority, Charleston, West Virginia.

Application Number: 04-09-C-00-CRW.

Application Type: Impose and use a PFC.

PFC Level: $4.50.

Total PFC Revenue Approved in this Decision: $6,426,159.

Earliest Charge Effective Date; February 1, 2006.

Estimated Charge Expiration Date: March 1, 2011.

Classes of Air Carriers Not Required To Collect PFC'S:

(1) Charter operators for hire to the general public under Part 135: (2) charter operators for hire to the general public under Part 121; (3) non-signatory and non-scheduled air carriers.

Determination: Approved. Based on information contained in the public agency's application, the FAA has determined that each proposed class accounts for less than 1 percent of the total annual emplacements at Yeager Airport.

Brief Description of Projects Approved for Collection and Use:

Runway 5 safety area improvements.

Runway 23 safety area improvements.

Airport drainage.

Acquire loading bridges for gates A, B and C4.

Acquire security vehicle.

Main terminal building emergency generator.

Main terminal building fire suppression system.

Main terminal building expansion at gate 10.

Acquire loading bridge for gate 10.

Runway 15/33 seal coat.

General aviation apron seal coat.

Environmental assessment for runway 5 protection zone land acquisition and obstruction removal.

Acquire snow removal equipment (two plows with spreaders).

Acquire snow removal equipment (broom).

Brief Description of Projects Approved for Collection:

Runway 5 obstruction removal.

Runway 5 protection zone land acquisition.

Rehabilitate taxiways A and B.

Decision Date: May 17, 2004.

FOR FURTHER INFORMATION CONTACT: Larry F. Clark, Beckley Airports District Office, (304) 252-6216.

Amendment to PFC Approvals:

Amendment No., city, state | Amendment approved date | Original approved net PFC revenue | Amended approved net PFC revenue | Original estimated charge exp. date | Amended estimated charge exp. date
01-03-C-02-LIT Little Rock, AR | 05/14/04 | $15,986,750 | $18,850,300 | 04/01/15 | 08/01/05

Issued in Washington, DC on June 18, 2004.
JoAnn Horne,
Manager, Financial Analysis and Passenger Facility Charge Branch.

[FR Doc. 04-14522 Filed 6-25-04; 8:45 am]

BILLING CODE 4910-13-M